ENVIRONMENTAL PROTECTION AGENCY

40 CFR Part 94

[EPA-HQ-OAR-2007-0120; FRL-8328-5]

RIN 2060-A026

Change in Deadline for Rulemaking To Address the Control of Emissions From New Marine Compression-Ignition Engines at or Above 30 Liters per Cylinder

AGENCY: Environmental Protection Agency (EPA).

ACTION: Withdrawal of Direct Final Rule.

SUMMARY: Because EPA received adverse comment, we are withdrawing the direct final rule for “Change in Deadline for Rulemaking to Address the Control of Emissions from New Marine Compression-Ignition Engines at or Above 30 Liters per Cylinder” published on April 27, 2007.

DATES: Effective June 19, 2007, EPA withdraws the direct final rule published at 72 FR 20948, on April 27, 2007.

FOR FURTHER INFORMATION CONTACT: Michael Samulski, Assessment and Standards Division, Office of Transportation and Air Quality, 2000 Traverwood Drive, Ann Arbor, MI, 48105; telephone number: (734) 214-4532; fax number: (734) 214-4050; e-mail address: samulski.michael@epa.gov.

SUPPLEMENTARY INFORMATION: Because EPA received adverse comment, we are withdrawing the direct final rule for “Change in Deadline for Rulemaking to Address the Control of Emissions from New Marine Compression-Ignition Engines at or Above 30 Liters per Cylinder” published on April 27, 2007 (72 FR 20948). We stated in that direct final rule that if we received adverse comment by May 29, 2007, we would publish a timely withdrawal in the Federal Register. We subsequently received adverse comment on that direct final rule. Concurrent with the direct final rule, we published a separate document (72 FR 20977) that will serve as the proposed rule to consider the adoption of the provisions in the direct final rule. We will address the comments in the context of subsequent activity on the proposed rulemaking.

List of Subjects in 40 CFR Part 94

Environmental protection, Administrative practice and procedure, Air pollution control, Confidential business information, Imports, Penalties, Reporting and recordkeeping requirements, Vessels, Warranties.

Dated: June 13, 2007.
Stephen L. Johnson,
Administrator.

[FR Doc. E7-11778 Filed 6-18-07; 8:45 am]

BILLING CODE 6560-50-P